DEPARTMENT OF TRANSPORTATION

Federal Highway Administration

Environmental Impact Statement; Manatee County, FL

AGENCY: Federal Highway Administration (FHWA), DOT.

ACTION: Notice of Cancellation of Notice of Intent.

SUMMARY: The FHWA is issuing this notice of cancellation to advise the public that we are no longer lead Federal Agency for preparation of an Environmental Impact Statement (EIS) for a proposed highway project in Manatee County, Florida. This is formal cancellation of the Notice of Intent that was published in the Federal Register on January 21, 2004.

FOR FURTHER INFORMATION CONTACT: Mr. George Hadley, Environmental Programs Coordinator, Federal Highway Administration, 545 John Knox Road, Suite 200, Tallahassee, Florida 32303, Telephone (850) 942-9650 extension 3011.

SUPPLEMENTARY INFORMATION: The notice of intent to prepare an EIS for a proposed roadway/bridge project on Upper Manatee River Road, from SR 64 to U.S. 301, a distance of approximately 6 miles, is rescinded.

(Catalog of Federal Domestic Assistance Program Number 20.205, Highway Research, Planning and Construction. The regulations implementing Executive Order 12372 regarding inter-governmental consultation on Federal programs and activities apply to this program.)

Issued on: March 5, 2008.
George B. Hadley,
Environmental Programs Coordinator, Tallahassee, Florida.

[FR Doc. E8-4942 Filed 3-13-08; 8:45 am]

BILLING CODE 4910-22-M